FEDERAL RESERVE SYSTEM

Agency Information Collection Activities: Announcement of Board Approval Under Delegated Authority and Submission to OMB

Background

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority of the Extension for Three Years, Without Revision, of the Following Reports

1. Report title: The HMDA Loan/Application Register.

Agency form number: FR HMDA-LAR.

OMB Control number: 7100-0247.

Frequency: Annual.

Reporters: State member banks, subsidiaries of state member banks, subsidiaries of bank holding companies, U.S. branches and agencies of foreign banks (other than federal branches, federal agencies, and insured state branches of foreign banks), commercial lending companies owned or controlled by foreign banks, and organizations under section 25 or 25A of the Federal Reserve Act.

Annual reporting hours: 121,714 hours.

Estimated average hours per response: Banks, 202 hours; mortgage subsidiaries, 160 hours.

Number of respondents: Banks, 517; mortgage subsidiaries, 108 hours.

Small businesses are not affected.

General description of report: This information collection is mandatory (12 U.S.C. 2801 et seq.). The data are not given confidential treatment, however, information that might identify individual borrowers or applicants is given confidential treatment under exemption 6 of the Freedom of Information Act (5 U.S.C. 552(b)(6)).

Abstract: The Federal Reserve's Regulation C, including the information collection, applies both to depository and to for-profit non-depository institutions. The information reported and disclosed pursuant to this collection is used to further the purposes of HMDA. These include: (1) to help determine whether financial institutions are serving the housing needs of their communities; (2) to assist public officials in distributing public-sector investments so as to attract private investment to areas where it is needed; and (3) to assist in identifying possible discriminatory lending patterns and enforcing anti-discrimination statues.

2. Report title: International Applications and Prior Notifications Under Subpart B of Regulation K.

Agency form number: FR K-2.

OMB Control number: 7100-0284.

Frequency: Event-generated.

Reporters: Foreign banks.

Annual reporting hours: 600 hours.

Estimated average hours per response: 40 hours.

Number of respondents: 15.

Small businesses are not affected.

General description of report: This information collection is required to obtain or retain a benefit sections 7 and 10 of the International Banking Act (12 U.S.C. 3105 and 3107). The applying organization has the opportunity to request confidentiality for information that it believes will qualify for a Freedom of Information Act exemption.

Abstract: Foreign banks are required to obtain the prior approval of the Federal Reserve to establish a branch, agency, or representative office or to acquire ownership or control of a commercial lending company in the United States or to change the status of any existing office in the United States. The Federal Reserve needs the information to fulfill its statutory obligation to supervise foreign banking organizations with offices in the United States.

Board of Governors of the Federal Reserve System, September 27, 2000.
Jennifer J. Johnson,
Secretary of the Board.

[FR Doc. 00-25317 Filed 10-2-00; 8:45 am]

BILLING CODE 6210-01-P